CIVIL RIGHTS COMMISSION

Sunshine Act Meeting

AGENCY: Commission on Civil Rights.

Date And Time: Friday, June 21, 2002, 9:30 a.m.

Place: 400 S.E. Second Avenue, Tuttle Room, Miami, FL 33131

Status: Open to the public.

Agenda

I. Approval of Agenda

II. Approval of Minutes of May 17, 2002 Meeting

III. Announcements

IV. Staff Director's Report

V. State Advisory Committee Appointments for Florida and Kentucky

VI. State Advisory Committee Report

• Barriers Facing Minority- and Women-Owned Businesses in Pennsylvania (Pennsylvania)

VII. Future Agenda Items

10:30 a.m. Briefing: Voting Rights in Florida 2002: The Impact of the Commission's Report and the Florida Election Reform Act of 2002 (Thursday, June 20, 2002)

Debra Carr,
Deputy General Counsel.

[FR Doc. 02-15041 Filed 6-11-02; 10:32 am]

BILLING CODE 6335-01-M